DEPARTMENT OF TRANSPORTATION

Research and Special Programs Administration

[Docket RSPA-98-4957; Notice 30]

Submission for OMB Approval and Public Comment Request

ACTION: Notice of request to renew an existing information collection.

SUMMARY: As required by the Paperwork Reduction Act the Research and Special Programs Administration (RSPA) is announcing its intention to request renewal of an existing information collection, Recordkeeping for Liquid Natural Gas Facilities (LNG) . This notice requests that LNG operators submit comments to indicate the burden associated with submitting this information. This information collection helps RSPA assess how it can better collect information and also helps RSPA ensure that LNG facilities are operated in a safe manner.

DATES: Comments on this notice must be received by December 11, 2001 to be assured of consideration.

ADDRESSES: Comments should identify the docket number of this notice, RSPA-98-4957. Comments can be mailed to Dockets Facility, U.S. Department of Transportation, Plaza 401, 400 Seventh Street SW., Washington, DC 20590-0001. You should submit the original and one copy. If you wish to receive confirmation of receipts of your comments you must include a stamped self-addressed postcard. The Dockets Facility is open from 10 a.m. to 5 p.m., Monday through Friday , except on Federal holidays. In addition, the public may also submit or review comments by accessing the Docket Management System's homepage at http://dms.dot.gov.

Type of Information Request: Reinstatement of an information collection.

Title of Information Collection: Recordkeeping for Liquid Natural Gas (LNG) Facilities.

OMB Approval Number: 2137-0048.

Frequency: On occasion.

Use: This collection is used by RSPA to ensure that LNG facilities are being operated in a safe manner.

Estimated Number of Respondents: 150.

Respondents: LNG facility operators.

Total Annual Hours Requested: 18,000 hours.

FOR FURTHER INFORMATION CONTACT: Marvin Fell, Office of Pipeline Safety, Research and Special Programs Administration, Department of Transportation, 400 Seventh Street, SW, Washington, DC 20950, (202) 366-6205 or by e-mail at marvin.fell@rspa.dot.gov.

Interested persons are invited to send comments regarding the burden estimate or any other aspect of this collection of information, including any of the following: (1) The necessity and utility of the proposed information collection for the proper performance of the agency's functions; (2) the accuracy of the estimated burden; (3) ways to enhance the quality, utility, and clarity of the information to be collected; and (4) the use of automated collection techniques or other forms of information technology to minimize the information collection burden.

Issued in Washington, DC on October 5, 2001.
Stacey L. Gerard,
Associate Administrator for Pipeline Safety.

[FR Doc. 01-25652 Filed 10-11-01; 8:45 am]

BILLING CODE 4910-60-P